DEPARTMENT OF THE TREASURY

Office of Thrift Supervision

Superior Bank, FSB; Notice of Appointment of Receiver

Notice is hereby given that, pursuant to the authority contained in section 5(d)(2) of the Home Owners' Loan Act, the Office of Thrift Supervision has duly appointed the Federal Deposit Insurance Corporation as sole Receiver for the Superior Bank, FSB, Hinsdale, Illinois (OTS No. 8566), on July 27, 2001.

Dated: July 31, 2001.
By the Office of Thrift Supervision.
Nadine Y. Washington,
Corporate Secretary.

[FR Doc. 01-19517 Filed 8-3-01; 8:45 am]

BILLING CODE 6720-01-M